SECURITIES AND EXCHANGE COMMISSION

[Release No. IC-24777]

Notice of Applications for Deregistration Under Section 8(f) of the Investment Company Act of 1940

November 30, 2000.

The following is a notice of applications for deregistration under section 8(f) of the Investment Company Act of 1940 for the month of November 2000. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on December 27, 2000, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW, Washington, DC 20549-0609. For Further Information Contact: Diane L. Titus, at (202) 942-0564, SEC, Division of Investment Management, Office of Investment Company Regulation, 450 Fifth Street, NW, Washington, DC 20549-0506.

Mackenzie Solutions [File No. 811-9107]

Summary: Applicant seeks an order declaring that it has ceased to be an investment company. On May 5, 2000, applicant made its final liquidating distribution to its shareholders based on net asset value. Expenses of $34,420 incurred in connection with the liquidation were paid by Ivy Management, Inc., applicant's investment adviser.

Filing Date: The application was filed on November 7, 2000.

Applicant's Address: Via Mizner Financial Plaza, 700 South Federal Highway—Suite 300, Boca Raton, Florida 33432.

Anchor Gold and Currency Trust [File No. 811-4640]; Anchor Resource and Commodity Trust [File No. 811-8706]

Summary: Each applicant seeks an order declaring that it has ceased to be an investment company. On October 30, 2000, each applicant made a final liquidating distribution to its shareholders based on net asset value. Expenses of $86,026 and $30,038, respectively, were incurred in connection with the liquidations and were paid by the applicants.

Filing Date: The applications were filed on November 6, 2000.

Applicants' Address: 579 Pleasant Street, Suite 4, Paxton, Massachusetts 01612.

Insured Tax Free Income Multi Series I (and Subsequent Multi-Series of the Trust) [File No. 811-4469]

Summary: Applicant, a unit investment trust, seeks an order declaring that it has ceased to be an investment company. On December 16, 1999, applicant made its final liquidating distribution to unit holders based on net asset value. Applicant incurred no expenses in connection with the liquidation.

Filing Date: The application was filed on October 23, 2000.

Applicant's Address: c/o Van Kampen Funds Inc., Administrator, 1 Parkview Plaza, PO Box 5555, Oakbrook Terrace, Illinois 60181-5555.

A.G. Series Trust [File No. 811-8912]

Summary: Applicant seeks an order declaring that it has ceased to be an investment company. On December 23, 1999, applicant distributed all of its shares at net asset value to its shareholders in connection with applicant's liquidation. Total expenses of $57,130.00 were incurred in connection with the liquidation and were paid by American General Annuity Insurance Company.

Filing Dates: The application was filed on August 23, 2000 and amended on November 15, 2000.

Applicant's Address: 2929 Allen Parkway, Houston, Texas 77019.

Norwest Select Funds [File No. 811-8202]

Summary: Applicant seeks an order declaring that it has ceased to be an investment company. On August 5, 1999, the shareholders of the applicant voted to approve the merger of applicant with another investment company. The name of the funds surviving the merger is Wells Fargo Variable Trust, and its Investment Company Act file number is 811-9255. Expenses of $109,099 were incurred in connection with the merger and were paid by Wells Fargo Bank, N.A., the administrator of Wells Fargo Variable Trust.

Filing Date: The application was filed on June 19, 2000, and amended on July 28, 2000 and October 5, 2000.

Applicant's Address: Two Portland Square, Portland, ME 04101.

GT Global Variable Investment Series [File 811-6672]

Summary: Applicant seeks an order declaring that it has ceased to be an investment company. On October 15, 1999, GT Global Variable America Fund, a series of applicant, transferred its assets to AIM Variable Insurance Funds, Inc. On October 18, 1999, GT Global Money Market Fund, a series of applicant, transferred its assets to AIM Variable Insurance Funds, Inc. On October 22, 1999, GT Global Variable International Fund, GT Global Variable Europe Fund, and GT Global Variable New Pacific Fund, each a series of applicant, transferred its assets to AIM Variable Insurance Funds, Inc. The distributions were based on net asset value. Legal expenses of $10,117 incurred in connection with the reorganization were paid by applicant's investment adviser, AIM Advisors, Inc. Accounting and other expenses of $5,387 were paid by applicant.

Filing Date: The application was filed on September 26, 2000.

Applicant's Address: 11 Greenway Plaza, Suite 100, Houston, Texas 77046-1173.

GT Global Variable Investment Trust [File 811-7164]

Summary: Applicant seeks an order declaring that it has ceased to be an investment company. On October 15, 1999, GT Variable Growth & Income Fund, GT Global Variable Telecommunications Fund, GT Global Variable Strategic Income Fund, GT Global Variable Global Government Income Fund, and GT Global Variable U.S. Government Income Fund, each a series of applicant, transferred its assets to AIM Variable Insurance Funds, Inc. On October 22, 1999, GT Global Variable Natural Resources Fund, GT Global Variable Infrastructure Fund, GT Global Variable Latin America Fund, and GT Global Variable Emerging Markets Fund, each a series of applicant, transferred its assets to AIM Variable Insurance Funds, Inc. The distributions were based on net asset value. Legal expenses of $18,368 incurred in connection with the reorganization were paid by applicant's investment adviser, AIM Advisors, Inc. Accounting and other expenses of $7,903 were paid by applicant.

Filing Date: The application was filed on September 26, 2000.

Applicant's Address; 11 Greenway Plaza, Suite 100, Houston, Texas 77046-1173.

For the Commission, by the Division of Investment Management, pursuant to delegated authority.
Margaret H. McFarland,
Deputy Secretary.

[FR Doc. 00-31022 Filed 12-5-00; 8:45 am]

BILLING CODE 8010-01-M